DEPARTMENT OF AGRICULTURE

Forest Service

Eastern Idaho Resource Advisory Committee; Caribou-Targhee National Forest, Idaho Falls, Idaho

AGENCY: Forest Service, USDA.

ACTION: Notice of meeting.

SUMMARY: Pursuant to the authorities in the Federal Advisory Committee Act (Public Law 92-463) and under the Secure Rural Schools and Community Self-Determination Act of 2000 (Public Law 106-393) the Caribou-Targhee National Forests' Eastern Idaho Resource Advisory Committee will meet Wednesday, March 19, 2003, in Idaho Falls for a business meeting. The meeting is open to the public.

DATES: The business meeting will be held on March 19, 2003, from 10 a.m. to 3 p.m.

ADDRESSES: The meeting location is the Caribou-Targhee National Forest Headquarters Office, 1405 Hollipark Drive, Idaho Falls, Idaho 83402.

FOR FURTHER INFORMATION CONTACT: Jerry Reese, Caribou-Targhee National Forest Supervisor and Designated Federal Officer, at (208) 524-7500.

SUPPLEMENTARY INFORMATION: The business meeting on March 19, 2003, begins at 10 a.m. at the Caribou-Targhee National Forest Headquarters Office, 1405 Hollipark Drive, Idaho Falls, Idaho. Agenda topics will include reviewing projects that have been submitted.

Dated: February 7, 2003.
Jerry B. Reese,
Caribou-Targhee Forest Supervisor.

[FR Doc. 03-3663 Filed 2-13-03; 8:45 am]

BILLING CODE 3410-11-M